DEPARTMENT OF COMMERCE

Bureau of Industry and Security

[Docket No. 03-BIS-03]

Action Affecting Export Privileges; Bassem A. Alhalabi

In the Matter of: Bassem A. Alhalabi, 9620 Via Emilie, Boca Raton, Florida 33428, Respondent.

Order

The Bureau of Industry and Security, United States Department of Commerce (“BIS”), having initiated an administrative proceeding against Bassem A. Alhalabi, (“Alhalabi”), pursuant to Section 13(c) of the Export Administration Act of 1979, as amended (50 U.S.C. app. Sections 2401-2420 (1994 & Supp. V 1999)) (the “Act”),¹ and the Export Administration Regulations (currently codified at 15 CFR Parts 730-774 (2003)) (“Regulations”),² based on the charging letter issued to Alhalabi that alleged that Alhalabi violated the Regulations on one occasion; specifically, that Alhalabi caused to be exported a thermal imaging camera, an item subject to the Regulations, from the United States to Syria without the required license from the Department of Commerce.

¹ From August 21, 1994 through November 12, 2000, the Act was in lapse. During that period, the President, through Executive Order 12924, which have been extended by successive Presidential Notices, the last of which was issued on August 3, 2000 (3 CFR, 2000 Comp. 397 (2001)), continued the Regulations in effect under the International Emergency Economic Powers Act (50 U.S.C. 1701-1706 (1994 & Supp. V 1999)) (“IEEPA”). On November 13, 2000, the Act was reauthorized and it remained in effect through August 20, 2001. Since August 21, 2001, the Act has been in lapse and the President, through Executive Order 13222 of August 17, 2001 (3 CFR, 2001 Comp., 783 (2002)), as extended by the Notice of August 14, 2002 (67 FR 53721 (August 16, 2002)), has continued the Regulations in effect under IEEPA.

² The Regulations are currently codified in the Code of Federal Regulations at 15 CFR Parts 730-774 (2003). The Regulations governing the violations at issue are found in the 1998 version of the Code of Federal Regulations. These Regulations are codified at 15 CFR Parts 730-774 (1998) and, to the degree to which they pertain to this matter, are substantially the same as the 2003 version.

BIS and Alhalabi having entered into a Settlement Agreement pursuant to Section 766.18(b) of the Regulations whereby they agreed to settle this matter in accordance with the terms and conditions set forth therein, and the terms of the Settlement Agreement having been approved by me;

It is therefore ordered:

First, that for a period of one year from the date of this Order, Alhalabi, and when acting for or on behalf of Alhalabi, his representatives, agents, assigns or employees (“denied person”) may not, directly or indirectly, participate in any way in any transaction involving any commodity, software, or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the denied person any item subject to the Regulations;

B. Take any action that facilitates the acquisition or attempted acquisition by the denied person of the ownership, possession, or control of any item subject to the Regulations that has been or will be exported from the United States, including financing or other support activities related to a transaction whereby the denied person acquires or attempts to acquire such ownership, possession or control;

C. Take any action to acquire from or to facilitate the acquisition or attempted acquisition from the denied person of any item subject to the Regulations that has been exported from the United States;

D. Obtain from the denied person in the United States any item subject to the Regulations with knowledge or reason to know that the item will be, or is intended to be, expected from the United States; or

E. Engage in any transaction to service any item subject to the Regulations that has been or will be exported from the United States and which is owned, possessed or controlled by the denied person, or service any item, of whatever origin, that is owned, possessed or controlled by the denied person if such service involves the use of any item subject to the Regulations that has been or will be exported from the United States. For purposes of this paragraph, servicing means installation, maintenance, repair, modification or testing.

Third, that after notice and opportunity for comment as provided in Section 766.23 of the Regulations, any person, firm, corporation, or business organization related to Alhalabi by affiliation, ownership, control, or position of responsibility in the conduct of trade or related services may also be subject to the provisions of this Order.

Fourth, that this Order does not prohibit any export, reexport, or other transaction subject to the Regulations where the only items involved that are subject to the Regulations are the foreign-produced direct product of U.S.-origin technology.

Fifth, that a copy of this Order shall be delivered to the United States Coast Guard ALJ Docketing Center, 40 Gay Street, Baltimore, Maryland 21202-4022, notifying that office that this case is withdrawn from adjudication, as provided by Section 766.18 of the Regulations.

Sixth, that the charging letter, the Settlement Agreement, and this Order shall be made available to the public.

This Order, which constitutes the final agency action in this matter, is effective immediately.

Entered this 24th day of June 2003.
Lisa A. Prager,
Acting Assistant Secretary of Commerce for Export Enforcement.

[FR Doc. 03-16480 Filed 6-27-03; 8:45 am]

BILLING CODE 3510-DT-M